DEPARTMENT OF AGRICULTURE

Office of Partnerships and Public Engagement

Notice of Request for an Extension of a Currently Approved Information Collection

AGENCY: Office of Partnerships and Public Engagement, USDA.

ACTION: Notice and request for comments.

SUMMARY: This notice announces the Office of Partnerships and Public Engagement intention to request an extension for a currently approved information collection for the United States Department of Agriculture (USDA) 1994 Tribal Scholars Program.

DATES: Comments on this notice must be received by December 12, 2022 to be assured of consideration.

ADDRESSES: Office of Partnerships and Public Engagement invites interested persons to submit comments on this notice. Comments may be submitted by one of the following methods:

□ Federal eRulemaking Portal: This website provides the ability to type short comments directly into the comment field on this web page or attach a file for lengthier comments. Go to http://www.regulations.gov. Follow the online instructions on that site for submitting comments.

□ Mail, including CD-ROMs, etc.: Send to USDA 1994 Tribal Scholars Program, U.S. Department of Agriculture, ATTN: Office of Partnerships and Public Engagement, 1400 Independence Avenue SW, Mailstop 0601, Room 524-A, Jaime L. Whitten Building, Washington, DC 20250-3700.

□ Hand or courier delivered submittals: 1400 Independence Avenue SW, Room 524-A, Jaime L. Whitten Building, Washington, DC 20250-3700.

Instructions: All items submitted by mail or electronic mail must include the organization's name: Office of Partnerships and Public Engagement. Comments received in response to this notice will be made available to the public for inspection and posted without change, including the name and location (if available) of the submitter to http://www.regulations.gov. In accordance with the Privacy Act, no other personally identifiable information will be posted.

For access to background documents or comments received, go to the Office of Partnerships and Public Engagement at 1400 Independence Avenue SW, Room 524-A, Jaime L. Whitten Building, Washington, DC 20250-3700, between the hours of 8:00 a.m. and 4:30 p.m. EST, Monday through Friday.

FOR FURTHER INFORMATION CONTACT: Lawrence A. Shorty, USDA 1994 Tribal Scholars Program, U.S. Department of Agriculture, 1400 Independence Avenue SW, Washington, DC 20250; or call (202) 720-6350 or fax (202) 720-7704; or Email: Lawrence.Shorty@usda.gov.

SUPPLEMENTARY INFORMATION: In accordance with the Paperwork Reduction Act of 1995 (44 U.S.C. chapter 35), this notice announces the intention of the Office of Partnerships and Public Engagement to request an extension of a currently approved information collection for the USDA 1994 Tribal Scholars Program.

Title: USDA 1994 Tribal Scholars Program.

OMB Number: 0503-0016.

Expiration Date of Approval: Three years from approval date.

Type of Request: Extension of a currently approved information collection.

Abstract: The USDA 1994 Tribal Scholars Program is a joint human capital initiative between the U.S. Department of Agriculture (USDA) and Tribal Colleges and Universities. Through the USDA 1994 Tribal Scholars Program, the USDA offers college scholarships to high school and college students who are seeking an associate's or a bachelor's degree in the fields of agriculture, food, science, or natural resource sciences and related disciplines at one of the 1994 Institutions. The USDA 1994 Tribal Scholars Program includes a paid work experience with a USDA sponsoring agency. Students will fill term Excepted Service positions, receive mentoring, and be provided developmental assignments. The program is conducted in accordance with a planned schedule and a working agreement between USDA agencies and the student.

The USDA 1994 Tribal Scholars Program will offer scholarships and paid training internships to U.S. citizens for a period of up to 4 years. The eligibility standards are:

1. Must be at least 16 years old.

2. Must be able to complete required occupation-related work experience (640 hours) prior to or concurrently with the completion of course requirements for the degree.

3. Must be a United States citizen or national (resident of American Samoa or Swains Island).

If you are not a citizen, you may participate if you are legally admitted to the United States as a permanent resident and are able to meet United States citizenship requirements prior to completion of your degree.

4. Must be in good academic standing.

High School College and College applicants will apply by:

(1) Writing an essay describing educational and career goals;

(2) Submitting a high school and/or a college transcript;

(3) Submitting a resume, and;

(4) Submitting two letters of recommendation. These letters of recommendation may be from high school teachers, college professors, and college officials.

Estimate of Burden: Public reporting burden for this collection of information is estimated to average 1.3 hours per response.

Respondents: High School or College applicants; High School Teachers and Guidance Counselors, College Professor(s), and College Officials.

Estimated Number of Respondents: 170 applications will generate 510 responses.

Estimated Number of Responses per Respondent: Each application will generate three responses.

Estimated Total Annual Burden on Respondents: 663 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Lawrence A. Shorty.

All comments received will be available for public inspection during regular business hours at the same address.

All responses to this notice will be summarized and included in the request for Office of Management and Budget approval. All comments will become a matter of public record.

Lisa Ramírez,
Director, Office of Partnerships and Public Engagement.

[FR Doc. 2022-21682 Filed 10-7-22; 8:45 am]

BILLING CODE P